SMALL BUSINESS ADMINISTRATION

[Declaration of Disaster #3629]

State of Georgia (Amendment #1)

In accordance with a notice received from the Department of Homeland Security “ Federal Emergency Management Agency—effective September 24, 2004, the above numbered declaration is hereby amended to include Dade, Miller, and Pickens as disaster areas due to damages caused by Hurricane Ivan occurring on September 14, 2004, and continuing.

In addition, applications for economic injury loans from small businesses located in the contiguous counties of Decatur and Walker in the State of Georgia; DeKalb and Jackson Counties in the State of Alabama; and Hamilton and Marion Counties in the State of Tennessee may be filed until the specified date at the previously designated location. All other counties contiguous to the above named primary counties have previously been declared.

The economic injury disaster number assigned to Tennessee is 9AD300.

All other information remains the same, i.e., the deadline for filing applications for physical damage is November 17, 2004 and for economic injury the deadline is June 20, 2005.

(Catalog of Federal Domestic Assistance Program Nos. 59002 and 59008).

Dated: September 30, 2004.
Cheri L. Cannon,
Acting Associate Administrator for Disaster Assistance.

[FR Doc. 04-22860 Filed 10-8-04; 8:45 am]

BILLING CODE 8025-01-P